DEPARTMENT OF THE TREASURY

Office of Foreign Assets Control

Sanctions Actions Pursuant to Executive Order 13315, as Amended by Executive Order 13350

AGENCY: Office of Foreign Assets Control, Treasury.

ACTION: Notice.

SUMMARY: The Treasury Department's Office of Foreign Assets Control (“OFAC”) is removing the name of an individual whose property and interests in property have been blocked pursuant to Executive Order 13315 of August 28, 2003, “Blocking Property of the Former Iraqi Regime, Its Senior Officials and Their Family Members, and Taking Certain Other Actions,” as amended by Executive Order 13350 of July 30, 2004, from the List of Specially Designated Nationals and Blocked Persons (SDN List).

DATES: The removal of this individual from the SDN List is effective as of April 4, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On April 4, 2016, OFAC determined that circumstances no longer warrant the inclusion of the following individual on OFAC's SDN list, and that this individual is no longer subject to the blocking provisions of Section 1(b) of Executive Order 13315, as amended by Executive Order 13350:

• AL-JANABI, Nabil Abdullah, Beirut, Lebanon; DOB 14 Aug 1942; POB Baghdad, Iraq; Passport H101901/1 (Iraq) (individual) [IRAQ2]

Dated: April 4, 2016.
Andrea Gacki,
Acting Director, Office of Foreign Assets Control.

[FR Doc. 2016-18696 Filed 8-5-16; 8:45 am]

BILLING CODE 4810-AL-P